DEPARTMENT OF TRANSPORTATION

Federal Aviation Administration

Eighth Meeting: RTCA Special Committee 225, Rechargeable Lithium Battery and Battery Systems—Small and Medium Sizes

AGENCY: Federal Aviation Administration (FAA), U.S. Department of Transportation (DOT).

ACTION: Meeting Notice of RTCA Special Committee 225, Rechargeable Lithium Battery and Battery Systems—Small and Medium Sizes.

SUMMARY: The FAA is issuing this notice to advise the public of the eighth meeting of RTCA Special Committee 225, Rechargeable Lithium Battery and Battery Systems—Small and Medium Sizes.

DATES: The meeting will be held July 17-19, 2012, from 9 a.m.-5 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 225. The agenda will include the following:

Tuesday, July 17, 2012

• Introductions and administrative items.

• Review and approve agenda

• Review and approval of summary from last plenary meeting.

• Update to TOR.

• Review schedule for upcoming Plenaries, working group meetings, and document preparation.

• Review action items.

• Working Group Meeting—Review draft document.

Wednesday, July 18

• Review agenda, other actions.

• Working Group Meeting—Review draft document.

Thursday, July 19

• Review agenda, other actions.

• Verify dates of next plenary and upcoming working group meetings.

• Establish Agenda for next plenary meeting.

• Working Group Meeting—Review draft document.

• Working Group report, review progress and actions.

• Review new action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 26, 2012.
David Sicard,
Manager, Business Operations Branch, Federal Aviation Administration.

[FR Doc. 2012-16110 Filed 6-29-12; 8:45 am]

BILLING CODE 4910-13-P